NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: April 12, 2023; 9 a.m.-4 p.m., April 13, 2023; 10 a.m.-4:30 p.m.

Place: National Science Foundation, 2415 Eisenhower Avenue, Alexandria, Virginia 22314; In-person and Virtual via Zoom. Registration for the meeting will be available at least two weeks prior to the meeting date. Both the agenda and the registration link will be located on the Polar AC website at: https://www.nsf.gov/geo/opp/advisory.jsp.

Type of Meeting: Open.

Contact Person: Sara Eckert, National Science Foundation, 2415 Eisenhower Avenue, Alexandria, Virginia 22314; Telephone: (703) 292-7899.

Minutes: May be obtained from the contact person listed above.

Purpose of Meeting: To provide advice and recommendations to the National Science Foundation concerning support for polar research, education, infrastructure and logistics, and related activities.

Agenda

April 12, 2023; 9 a.m.-4 p.m. (In Person and Virtual)

• Upcoming field seasons and COVID-19

• Discussion on Diversity, Equity, and Inclusion

• Antarctic Research Vessel Updates

• Subcommittee on South Pole Prioritization

• Physical Qualifications in Polar Programs

• International Engagement

April 13, 2023; 10 a.m.-4:30 p.m. (In Person and Virtual)

• Joint session with AC-GEO

○ Geosciences Directorate Update

○ Update on Sexual Assault/Harassment Prevention and Response Briefing by head of NSF Office of Legislative and Public Affairs

○ NSF Leadership presentation

Dated: March 10, 2023.
Crystal Robinson,
Committee Management Officer.

[FR Doc. 2023-05315 Filed 3-14-23; 8:45 am]

BILLING CODE 7555-01-P